DEPARTMENT OF COMMERCE

International Trade Administration

[A-122-863]

Large Diameter Welded Pipe From Canada: Amended Final Results of Antidumping Duty Administrative Review; 2021-2022

AGENCY: Enforcement and Compliance, International Trade Administration, Department of Commerce.

SUMMARY: The U.S. Department of Commerce (Commerce) is amending the final results of the administrative review of the antidumping duty order on large diameter welded pipe (welded pipe) from Canada to correct a ministerial error. Based on the amended final results, we find that welded pipe from Canada was not sold in the United States at less than normal value (NV), during the period of review (POR), May 1, 2021, through April 30, 2022.

DATES: Applicable January 18, 2024.

FOR FURTHER INFORMATION CONTACT: Faris Montgomery, AD/CVD Operations, Office VIII, Enforcement and Compliance, International Trade Administration, U.S. Department of Commerce, 1401 Constitution Avenue NW, Washington, DC 20230; telephone: (202) 482-1537.

SUPPLEMENTARY INFORMATION:

Background

On December 5, 2023, Commerce disclosed its calculations to interested parties and provided interested parties with the opportunity to submit ministerial error comments.¹ On December 11, 2023, Evraz ² submitted an allegation of a ministerial error in the Final Results.³ No other party made a ministerial error allegation or provided rebuttal comments in response to Evraz's ministerial error allegation. On December 13, 2023, Commerce published its final results of administrative review.⁴

¹ See Memorandum, “Deadline for Ministerial Error Comments for the Final Results,” dated December 6, 2023.

² In the underlying investigation, Commerce treated Evraz Inc. NA, Evraz Inc. NA Canada, and the Canadian National Steel Corporation (collectively, Evraz) as a single entity. See Large Diameter Welded Pipe from Canada: Final Affirmative Determination of Sales at Less Than Fair Value, 84 FR 6378 (February 27, 2019). There is no information on this record of this review that warrants reconsideration of this single entity determination.

³ See Large Diameter Welded Pipe from Canada: Final Results of Antidumping Duty Administrative Review and Final Determination of No Shipments; 2021-2022, 88 FR 86316 (December 13, 2023) (Final Results), and accompanying Issues and Decision Memorandum (IDM). See also Evraz's Letter, “Ministerial Error Comments for the Final Results,” dated December 11, 2023 (Ministerial Error Allegation).

⁴ See Final Results IDM.

Legal Framework

Section 751(h) of the Tariff Act of 1930, as amended (the Act), defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . .”

Ministerial Error

Commerce has determined that it made a ministerial error in the Final Results within the meaning of section 751(h) of the Act and 19 CFR 351.224(f). In the Final Results, we made certain revisions to the preliminary results based on minor corrections found at verification to the cost of coating revenue for certain home market sales.⁵ In its ministerial error allegation, Evraz stated that in revising the coating revenue for certain home market sales based on minor corrections, Commerce did not apply the corrected values properly to certain applicable fields in Evraz's home market sales data, and the correction was consequently not accounted for in Evraz's final margin calculations.⁶

⁵ Id. at 3.

⁶ See Ministerial Error Allegation at 2-3.

Commerce determines that it made a ministerial error in the Final Results pursuant to section 751(h) of the Act and 19 CFR 351.224(f) and has amended its calculations with regard to the coating revenue revised as a result of verification.

For a complete discussion of the ministerial error allegation, as well as Commerce's analysis, see the accompanying Ministerial Error Memorandum.⁷ The Ministerial Error Memorandum is a public document and is on file electronically via Enforcement and Compliance's Antidumping and Countervailing Duty Centralized Electronic Service System (ACCESS). ACCESS is available to registered users at https://access.trade.gov.

⁷ See Memorandum, “Ministerial Error Allegation in the Final Results,” dated concurrently with this notice (Ministerial Error Memorandum).

Pursuant to 19 CFR 351.224(e), Commerce is amending the Final Results to reflect the correction of this ministerial error in the calculation of the weighted-average dumping margin assigned to Evraz in the Final Results, which changes from 9.17 percent to 0.00 percent.

Rate for Non-Examined Companies

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally an amount equal to the weighted average of the estimated weighted-average dumping margins established for exporters and producers individually investigated, excluding rates that are zero, de minimis or determined entirely on the basis of facts available.

As discussed in these amended final results of review, we calculated a weighted-average dumping margin that is zero for Evraz, the sole mandatory respondent in this administrative review. Because this is the only weighted-average dumping margin determined in this review for an individually examined respondent, we are applying this rate to the non-examined companies under review consistent with section 735(c)(5)(B) of the Act. Accordingly, we are amending the rate applied to the 36 non-examined companies under review ⁸ in the Final Results, from 9.17 percent to 0.00 percent.

⁸ See Appendix.

Amended Final Results

As a result of correcting the ministerial error, Commerce determines that the following estimated weighted-average dumping margins exists for the period May 1, 2021, through April 30, 2022:

Exporter or producer | Weighted-average dumping margin (percent)
Evraz Inc. NA, Evraz Inc. NA Canada, and the Canadian National Steel Corporation | 0.00
Companies Not Selected for Individual Examination | 0.00

Disclosure

We intend to disclose to parties in this proceeding, under administrative protective order, the margin calculations performed for these amended final results within five days after publication of these amended final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with these amended final results of review. Commerce intends to issue assessment instructions to CBP no earlier than 41 days after the date of publication of the amended final results of this review in the Federal Register, in accordance with 19 CFR 356.8(a).

Because the weighted-average dumping margin for Evraz is zero percent, we will instruct CBP to liquidate the appropriate entries without regard to antidumping duties.⁹

⁹ See Antidumping Proceedings: Calculation of the Weighted-Average Dumping Margin and Assessment Rate in Certain Antidumping Proceedings; Final Modification, 77 FR 8101, 8102 (February 14, 2012).

Commerce's “automatic assessment” practice will apply to entries of subject merchandise during the POR produced by Evraz for which the company did not know that the merchandise it sold to the intermediary (e.g., a reseller, trading company, or exporter) was destined for the United States. In such instances, we will instruct CBP to liquidate unreviewed entries at the all-others rate if there is no rate for the intermediate company(ies) involved in the transaction.¹⁰

¹⁰ For a full discussion of this practice, see Antidumping and Countervailing Duty Proceedings: Assessment of Antidumping Duties, 68 FR 23954 (May 6, 2003).

Because the weighted-average dumping margin assigned to the companies which were not selected for individual examination is zero percent, we will instruct CBP to liquidate the appropriate entries without regard to antidumping duties.

Cash Deposit Requirements

The following deposit requirements will be effective for all shipments of the subject merchandise entered, or withdrawn from warehouse, for consumption on or after the publication date of the final results of this administrative review, as provided by section 751(a)(2)(C) of the Act: (1) the cash deposit rate for the companies listed above will be equal to the weighted-average dumping margin that is established in the amended final results of this review, except if the rate is less than 0.50 percent and, therefore, de minimis within the meaning of 19 CFR 351.106(c)(1), in which case the cash deposit rate will be zero; (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 12.32 percent ad valorem, the all-others rate established in the LTFV investigation.¹¹

¹¹ See Large Diameter Welded Pipe from Canada: Antidumping Duty Order, 84 FR 18775 (May 2, 2019).

These cash deposit requirements, when imposed, shall remain in effect until further notice.

Notification to Importers

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(h) and 777(i)(1) of the Act, and 19 CFR 351.224(e).

Dated: January 9, 2024.
Abdelali Elouaradia,
Deputy Assistant Secretary for Enforcement and Compliance.

Appendix

Review-Specific Rate Applicable to Companies Not Selected for Individual Examination

1. Acier Profile SBB Inc

2. Aciers Lague Steels Inc

3. Amdor Inc

4. BPC Services Group

5. Bri-Steel Manufacturing

6. Canada Culvert

7. Cappco Tubular Products Canada Inc.

8. CFI Metal Inc

9. Dominion Pipe & Piling

10. Enduro Canada Pipeline Services

11. Fi Oilfield Services Canada

12. Gchem Ltd.

13. Graham Construction

14. Groupe Fordia Inc

15. Grupo Fordia Inc

16. Hodgson Custom Rolling

17. Interpipe Inc

18. K K Recycling Services

19. Kobelt Manufacturing Co

20. Labrie Environment

21. Les Aciers Sofatec

22. Lorenz Conveying P

23. Lorenz Conveying Products

24. Matrix Manufacturing

25. MBI Produits De Forge

26. Nor Arc

27. Peak Drilling Ltd

28. Pipe & Piling Sply Ltd

29. Pipe & Piling Supplies

30. Prudental

31. Prudential

32. Shaw Pipe Protecction

33. Shaw Pipe Protection

34. Tenaris Algoma Tubes Facility

35. Tenaris Prudential

36. Welded Tube of Can Ltd

[FR Doc. 2024-00904 Filed 1-17-24; 8:45 am]

BILLING CODE 3510-DS-P